SMALL BUSINESS ADMINISTRATION

[Disaster Declaration #14685 and #14686]

Mississippi Disaster Number MS-00084

AGENCY: U.S. Small Business Administration.

ACTION: Amendment 3.

SUMMARY: This is an amendment of the Presidential declaration of a major disaster for the State of Mississippi (FEMA-4268-DR), dated 03/25/2016.

Incident: Severe Storms and Flooding.

Incident Period: 03/09/2016 through 03/29/2016.

DATES: Effective Date: 04/13/2016.

Physical Loan Application Deadline Date: 05/24/2016.

EIDL Loan Application Deadline Date: 12/27/2016.

ADDRESSES: Submit completed loan applications to: U.S. Small Business Administration, Processing and Disbursement Center, 14925 Kingsport Road, Fort Worth, TX 76155

FOR FURTHER INFORMATION CONTACT: A. Escobar, Office of Disaster Assistance, U.S. Small Business Administration, 409 3rd Street SW., Suite 6050, Washington, DC 20416.

SUPPLEMENTARY INFORMATION: The notice of the President's major disaster declaration for the State of Mississippi, dated 03/25/2016 is hereby amended to establish the incident period for this disaster as beginning 03/09/2016 and continuing through 03/29/2016.

All other information in the original declaration remains unchanged.

(Catalog of Federal Domestic Assistance Number 59008)

Lisa Lopez-Suarez,
Acting Associate Administrator for Disaster Assistance.

[FR Doc. 2016-09391 Filed 4-21-16; 8:45 am]

BILLING CODE 8025-01-P